Proclamation 9187 of October 3, 2014

German-American Day, 2014

By the President of the United States of America

A Proclamation

America is and always has been a Nation of immigrants, and from our earliest days, German Americans have contributed to our national identity. Germans were among the first settlers in the original 13 Colonies, bringing their talents and ideas across the ocean to a new and unfamiliar world. And today, with their descendants and all who followed in their path, we continue to perfect our Union together. On German-American Day, we recognize their distinctive identity and the ways they enrich our country.

German Americans helped build our Nation, and every day they contribute to its growth. As they teach in our schools, farm in our heartland, and serve in our Armed Forces, their German roots offer a sense of their place in the American story. From a land of poets and thinkers, they brought passion for music, science, and art, fortifying our culture and broadening our understanding of the world. Our greatest cities and our biggest advances reflect their daring spirit and diverse contributions.

As we consider our German-American history, we are also reminded that the United States and Germany are vital partners. With the 25th anniversary of the fall of the Berlin Wall approaching, our security and prosperity remain interwoven, and our friendship continues as we work together in pursuit of a more peaceful, stable world. On this occasion, may citizens from both sides of the Atlantic draw strength from the legacy of our Nation's earliest immigrants who boldly pushed forward in unforgiving times. May our shared past continue to inspire us as we face new challenges in our own time.

NOW, THEREFORE, I, BARACK OBAMA, President of the United States of America, by virtue of the authority vested in me by the Constitution and the laws of the United States, do hereby proclaim October 6, 2014, as German-American Day. I encourage all Americans to learn more about the history of German Americans and reflect on the many contributions they have made to our Nation.

IN WITNESS WHEREOF, I have hereunto set my hand this third day of October, in the year of our Lord two thousand fourteen, and of the Independence of the United States of America the two hundred and thirty-ninth.

[FR Doc. 2014-24216

Filed 10-7-14; 11:15 am]

Billing code 3295-F5